DEPARTMENT OF JUSTICE

Notice of Lodging of Proposed Consent Decree Under the Clean Air Act

On May 30, 2017, the Department of Justice lodged a proposed Consent Decree with the United States District Court for the Northern District of Texas, Abilene Division, in the lawsuit entitled United States v. Alon USA, LP, Case No.1:17-cv-00087.

The proposed Consent Decree resolves United States' claims under the Clean Air Act (CAA) against Alon USA, LP, concerning its petroleum refinery located in Big Spring, Texas. The proposed Decree addresses the pollutants benzene (under the National Emission Standards for Hazardous Air Pollutants for benzene) and volatile organic compounds (in connection with leak-detection-and-repair requirements). Under the CAA's New Source Performance Standards and the Prevention of Significant Deterioration standards, the proposed Decree also addresses various emissions from certain refinery devices, including: Heaters and boilers, flares, and a fluidized catalytic cracking unit (including its regenerator and its associated boiler). Also under the proposed Decree, Defendant would perform a supplemental environmental project to reduce emissions of nitrogen oxides and pay a civil penalty of $456,250.00.

The publication of this notice opens a period for public comment on the proposed Decree. Comments should be addressed to the Assistant Attorney General, Environment and Natural Resources Division, and should refer to United States of America v. Alon USA, LP, D.J. Ref. No. 90-5-2-1-09157. All comments must be received no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $40.75 (25 cents per page reproduction cost) payable to the United States Treasury.

Thomas P. Carroll,
Assistant Section Chief, Environmental Enforcement Section, Environment and Natural Resources Division.

[FR Doc. 2017-11616 Filed 6-5-17; 8:45 am]

BILLING CODE 4410-15-P